DEPARTMENT OF TRANSPORTATION

Federal Aviation Administration

Aging Transport Systems Rulemaking Advisory Committee

AGENCY: Federal Aviation Administration (FAA), DOT.

ACTION: Notice of new tasks for the Aging Transport Systems Rulemaking Advisory Committee (ATSRAC).

SUMMARY: This notice announces the new tasks assigned to and accepted by the ATSRAC.

FOR FURTHER INFORMATION CONTACT: Charles Huber, Manager, Safety Management Branch, ANM—117, Executive Director of ATSRAC, Federal Aviation Administration, 1601 Lind Avenue, SW., Renton, WA 98055; telephone (425) 227-2589; fax (425) 227-1320.

SUPPLEMENTARY INFORMATION:

Background

In response to the White House Commission on Aviation Safety and Security, the FAA formed the Aging Non-Structural Systems Study Team, to develop the FAA's approach to improving management of aging wire systems. To help fulfill the actions specified in the Aging Non-Structural Systems Plan, the FAA set up an Aging Transport Systems Rulemaking Advisory Committee (ATSRAC) to give recommendations on airplane system safety issues.

In 1998, the FAA assigned five tasks to the ATSRAC. These tasks included collecting data on aging wiring systems through airplane inspections, reviewing airplane manufacturers' service information, reviewing operators' maintenance programs, and providing the FAA with recommendations to enhance the safety of those systems. The FAA held a public meeting on January 20, 1999, to discuss the Committee's operations and their assigned tasks.

The ATSRAC found that problems associated with systems on aging airplanes are not entirely related to the degradation overtime of wire systems. The review of these systems also found inadequate installation and maintenance practices could lead to what is commonly referred to as an “aging system” problem. Therefore, the scope of the ATSRAC's work includes, not only age-related issues, but also involves improving the continued airworthiness of airplane systems (i.e., wire systems).

The FAA accepted the ATSRAC recommendations from the first five tasks and subsequently assigned five additional tasks to get the Committee's help in implementing the safety enhancements from their earlier recommendations. The FAA is now considering the ATSRAC recommendations on the second set of tasks. These recommendations include rulemaking and other actions. Implementation of the ATSRAC recommendations is a major part of the FAA's Enhanced Airworthiness Program for Airplane Systems (EAPAS), a program that addresses the safety of wiring systems.

The FAA recognizes the knowledge and experience the ATSRAC provides. Because ATSRAC members represent a large cross-section of industry, they will supply the FAA with an invaluable resource of technical expertise in a variety of areas. Therefore, the FAA has assigned three new tasks to the ATSRAC to help carry out the EAPAS objectives.

This notice announces the new tasks, which the ATSRAC has accepted. These tasks will allow the FAA to get the Committee's continuing help to carry out their recommendations. ATSRAC has chosen to form harmonization working groups (HWG) to provide technical support to develop their recommendations on these tasks. A discussion of the new tasks and harmonization working groups (HWG) follows.

I. EAPAS Rulemaking Advisory HWG

To promote efficient rulemaking and compliance with this rulemaking, the FAA tasks ATSRAC to provide, when specifically sought by the FAA, recommendations about the issues discussed in items I-1 through I-3 of this section. The ATSRAC Executive Director will send each FAA task to the ATSRAC Chair to obtain the ATSRAC members' decision on whether to accept the FAA's assigned task.

I-1. Alternatives to Rulemaking

The rulemaking process requires agencies to explore alternatives to rulemaking. Such alternatives may include taking voluntary (or nonmandated) action or taking no action. Under Task I-1, the FAA may request recommendations from the ATSRAC on how to carry out alternatives, which the FAA considers reasonable, to rulemaking. This would include providing an estimate of the resulting improvement to safety. The FAA may also request recommendations on how to measure implementation of the alternative actions and how the FAA can best support these actions.

I-2. Technical and Economic Data

Questions may arise during rulemaking where added technical and economic data are needed. This may include the need for such information to prepare responses to public comments on a proposed rule.

I-3. Disposition of Comments from an EAPAS Notice of Proposed Rulemaking (NPRM)

Under Task I-3, the FAA may request the ATSRAC's help in dispositioning any comments the FAA might receive in response to an NPRM. Such support may include the ATSRAC's review of the FAA's prepared disposition of comments.

II. Electrical Wiring Interconnection Systems (EWIS) Research and Development (R&D) Technology Transfer HWG

In the past, the FAA has provided quarterly reviews of their research and development program to the ATSRAC. These reviews have resulted in a useful exchange of information and in the formation of research partnerships and other cooperative research. As the EAPAS program continues, it would be helpful to have the ATSRAC explore FAA and other R&D products and results that may be valuable to the aviation industry. As appropriate, the FAA will seek the ATSRAC's help in—

• Developing strategies for technology transfer to the aviation community in a manner that optimizes their transfer and optimizes the benefits resulting from their transfer; and

• Achieving optimal compliance with existing and anticipated FAA electrical systems rules.

To achieve the two R&D objectives, the HWG would complete the following tasks:

II-1. Develop effective strategies to transfer and set up, in the aviation community, R&D products. This includes providing recommendations for the best way to carry out these goals (e.g., through rulemaking, advisory circulars, or other means).

II-2. Review and screen FAA and other R&D products (e.g., R&D prototypes), as appropriate, and devise strategies to further develop these products into commercially viable tools that support the two R&D objectives referenced in this section. Such strategies may include recommendations for added FAA research and development; however, the strategies should mainly address industry activity to achieve a desired end product.

II-3. Explore opportunities to promote cooperative efforts and partnerships valuable to achieving the two R&D objectives.

III. Small Transport Airplane Enhanced Wiring Inspection HWG

Criteria for upgrading and developing enhanced wiring inspection procedures should be developed for use by manufacturers of small transport airplanes. These criteria should be based on the results of previously conducted inspections and tests and recommendations from ATSRAC.

The tasks for this HWG are as follows:

III-1. Review existing small transport airplane manufacturers' wiring inspection procedures.

III-2. Identify and prepare, as necessary, criteria for upgrading and developing enhanced procedures for inspection, cleaning, reduction of combustible material (e.g., lint and chemical contamination), reduction of potential ignition sources (e.g., cracked wiring), and maintenance of the electrical wiring interconnection systems (EWIS) on small transport airplanes.

III-3. Develop and recommend compliance means to adopt the criteria referenced in III-2 and incorporate the enhanced wiring inspection procedures in operators' maintenance programs.

ATSRAC Acceptance of Tasks

ATSRAC has accepted Tasks I through III with an expected completion date of all tasks by January 2005. However, certain specific tasks may require an earlier completion date.

Working Group Activity

The working groups serve as staff to the ATSRAC to help the Committee in writing technical reports that will allow the FAA to complete actions related to the EAPAS program. Working group documents will be reviewed, deliberated, and approved by the ATSRAC. If the ATSRAC accepts the working group's documents, the Committee will forward them to the FAA as ATSRAC recommendations.

The working groups are expected to comply with the procedures adopted by the ATSRAC. As part of the procedures, the working groups are expected to:

1. Recommend a work plan for completion of the task, including the rationale supporting such a plan, for consideration by the ATSRAC, after setting-up the working groups and selecting members.

2. Give a detailed conceptual presentation of proposed recommendations before starting the work stated in item 3 of this section.

3. Draft a report and any other collateral documents the working group finds proper and send them to the ATSRAC for review and approval.

4. Provide a status report at each meeting of the ATSRAC.

Participation in the Working Group

Each of the working groups will be composed of experts with an interest in a particular task. Working group participants should be prepared to devote a significant portion of their time and resources to the ATSRAC task. A working group member need not be a representative or a member of the ATSRAC. Experts in the task area who want to become a member of one of the working groups should contact Charles Huber (see FOR FURTHER INFORMATION CONTACT section) and explain their interest in the task and the expertise they would bring to the working group. All requests to take part in the working groups must be received no later than June 27, 2003. The ATSRAC Chair, Executive Director, and the working group chair will review requests for membership and will advise individuals whether their requests can be accommodated.

The Secretary of Transportation has determined the formation and use of the ATSRAC are necessary and in the public interest as related to duties imposed on the FAA by law. Meetings of the ATSRAC will be open to the public. Meetings of the individual working groups will not be open to the public, except for individuals selected as working group members. No public announcement of working group meetings will be made.

Issued in Washington, DC, on May 20, 2003.
Anthony F. Fazio,
Director, Office of Rulemaking.

[FR Doc. 03-13244 Filed 5-27-03; 8:45 am]

BILLING CODE 4910-13-P